SECURITIES AND EXCHANGE COMMISSION

Submission for OMB Review; Comment Request

Upon Written Request; Copies Available From: Securities and Exchange Commission, Office of Filings and Information Services, Washington, DC 20549.

Extension:

Rule 14f-1, OMB Control No. 3235-0108, SEC File No. 270-127.

Rule 12d1-3; OMB Control No. 3235-0109; SEC File No. 270-116.

Notice is hereby given that pursuant to the Paperwork Reduction Act of 1995 (44 U.S.C. 3501 et seq.) the Securities and Exchange Commission (“Commission”) has submitted to the Office of Management and Budget requests for extension of the previously approved collections of information discussed below.

Rule 14f-1(OMB Control No. 3235-0108; SEC File No. 270-127) requires issuers to disclose a change in a majority of the directors of the issuer. The information filed under Rule 14f-1 must be filed with the Commission and is publicly available. We estimate that it takes 18 burden hours to provide the information required under Rule 14f-1 and that the information is filed by 44 respondents for a total of 792 burden hours.

Rule 12d1-3(OMB Control No. 3235-0109; SEC File No. 270-116) requires a certification that a security has been approved by an exchange for listing and registration pursuant to section 12(d) of the Securities Exchange Act of 1934 to be filed with the Commission. The information required under Rule 12d1-3 must be filed with the Commission and is publicly available. We estimate that it takes one-half hour to provide the information required under Rule 12d1-3 and that the information is filed by 688 respondents for a total of 344 burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: October 27, 2003.
Margaret H. McFarland,
Deputy Secretary.

[FR Doc. 03-27979 Filed 11-5-03; 8:45 am]

BILLING CODE 8010-01-P